DEPARTMENT OF HEALTH AND HUMAN SERVICES

Centers for Disease Control and Prevention

Centers for Disease Control and Prevention/Health Resources and Services Administration (CDC/HRSA) Advisory Committee on HIV and STD Prevention and Treatment (CHACHSPT)

In accordance with section 10(a)(2) of the Federal Advisory Committee Act (Pub. L. 92-463), CDC/HRSA announces the following meeting of the aforementioned committee.

Times and Dates

8 a.m.-5:30 p.m., May 10, 2011.

8 a.m.-3 p.m., May 11, 2011.

Place: Loews Atlanta Hotel, 1065 Peachtree Street, NE., Atlanta, Georgia 30309, Telephone: (202) 234-0700.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include (1) Update on Institute of Medicine Studies related to HIV testing, Barriers and Linkage to HIV Care; (2) Update on Strategic Prevention Activities from both CHAC Workgroups on Sexual Health and Viral Hepatitis; (3) Update on CDC HIV Prevention Portfolio with Emphasis on the new Division of HIV/AIDS Prevention Strategic Plan, HIV Surveillance, Expanded HIV Testing, and Fiscal Year 2012 Activities; (4) Panel Presentation on CDC Strategic Priorities and Coordination of Media and Social Marketing related to HIV, STD and Viral Hepatitis prevention; and (5) Rethinking Sexually Transmitted Disease Prevention in a transformed health system: Opportunities and Challenges.

Agenda items are subject to change as priorities dictate.

CONTACT PERSON FOR MORE INFORMATION: Margie Scott-Cseh, CDC, National Center for HIV/AIDS, Viral Hepatitis, STD, and TB Prevention, 1600 Clifton Road, NE., Mailstop E-07, Atlanta, Georgia 30333, Telephone: (404) 639-8317.

The Director, Management Analysis and Services Office, has been delegated the authority to sign Federal Register Notices pertaining to announcements of meetings and other committee management activities, for both the Centers for Disease Control and Prevention, and the Agency for Toxic Substances and Disease Registry.

Dated: April 15, 2011.
Elaine L. Baker,
Director, Management Analysis and Services Office, Centers for Disease Control and Prevention.

[FR Doc. 2011-9879 Filed 4-21-11; 8:45 am]

BILLING CODE 4163-18-P